DEPARTMENT OF JUSTICE

National Institute of Corrections

Solicitation for a Cooperative Agreement—Development and Pilot Training of a Curriculum for Pretrial Justice System Stakeholders

AGENCY: National Institute of Corrections, U.S. Department of Justice.

ACTION: Solicitation for a Cooperative Agreement.

SUMMARY: The National Institute of Corrections (NIC) is soliciting proposals from organizations, groups, or individuals to enter into a cooperative agreement for a 15-month period to begin no later than August 31, 2013. Work under this cooperative agreement will involve the development and pilot of a training curriculum targeted toward teams of pretrial justice stakeholders who have the primary responsibility of developing and maintaining the pretrial justice system within their jurisdiction. This curriculum is intended to prepare these teams to plan, develop, and implement critical policy and systemwide pretrial decisions in a collaborative structure based on the most current legal and evidence-based pretrial knowledge. These teams must have the participation of the judge, prosecutor, defense attorney, sheriff or jail administrator, and pretrial director, who have primary oversight of pretrial justice in their jurisdiction. The curriculum will help teams explore their independent and collaborative roles in the development and daily operational functions of maintaining pretrial justice within their jurisdiction. This project will be a collaborative venture with the NIC Community Services Division.

NIC Opportunity Number: 13CS04. This number should appear in the reference line in your cover letter, on Standard Form 424 in section 11 with the title of your proposal, and in the right justified header of your proposal.

Number of Awards and Funds Available: Under this solicitation, 1 (one) award will be made. The total amount of funds available under this solicitation is $70,000.00.

Applications: All applications must be submitted electronically via http://www.grants.gov. Hand delivered, mailed, faxed, or emailed applications will not be accepted.

DATES: Application must be submitted before midnight on Tuesday, July 16, 2013.

Authority: Public Law 93-415

Elegibility of Applicants: An eligible applicant is any public or private agency, educational institution, organization, individual or team with expertise in the described areas.

SUPPLEMENTARY INFORMATION:

Background: The National Institute of Corrections recognizes the necessity of having a high functioning pretrial release structure within a criminal justice system. The pretrial detention or release decision is unique and often creates conflicts between criminal justice stakeholders even when the best policy and protocols are followed. This conflict has contributed to increasing numbers of defendants being held in jail during their pretrial period. Nationally, about 65% of jail populations are pretrial defendants, charged but not convicted of a crime. Many of these pretrial detainees are being held on low money bail amounts, are considered to have a high probability to appear at all of their scheduled court hearings, and have a low probability of committing any criminal acts while in the community. NIC currently offers an Orientation for New Pretrial Executives two times per year. This 40-hour training addresses and prepares these executives for the unique challenges they face with the development and implementation of pretrial release and supervision services. Approximately 150 pretrial executives have completed this course and have taken their new skills and knowledge back to their jurisdictions with the intent of implementing the best known practices in pretrial release. When they return to their jurisdictions, other key pretrial release stakeholders do not have the same knowledge and skill set as the pretrial executive now holds. This knowledge gap creates a significant barrier to the implementation of a high functioning pretrial detention and release system. A proposal responsive to this solicitation should, at minimum include strategies to develop a curriculum targeted to a team of pretrial justice stakeholders, including the judge, prosecutor, defense attorney, sheriff or jail administrator, and pretrial director. The curriculum will explore the individual and collaborative roles and functions they have when maintaining a pretrial justice system grounded in relevant legal and evidence-based practices. It should be delivered in a manner that promotes adult learning and collaborative planning and decision making.

Scope of Work: The goal of this cooperative agreement is to develop and pilot a blended learning curriculum formatted on the instructional theory into practice (ITIP) model. The curriculum is intended for pretrial justice stakeholder teams that have the primary responsibility of developing pretrial detention and release policy and practices within their jurisdiction. The curriculum will prepare teams with the skills and knowledge necessary to plan, develop, and implement a high functioning pretrial justice system. It should be developed and delivered in methods that promote adult learning and collaborative team decision making. This work will occur in four phases. The first phase is curriculum development and design. Mandatory content areas that the curriculum must address include legal foundations, professional standards, performance and outcome measures, and evidence-based practices of pretrial justice. Stakeholder focus groups will be held to determine other required knowledge and competency areas needed to complete the curriculum. The second phase is training for and review and revision by identified course trainers. The training will introduce trainers to the curriculum, adult learning theory, and effective facilitation strategies. Information gathered from observation of the training and/or feedback from the trainers will be incorporated into the draft curriculum. The third phase is pilot testing. Trainers will deliver the curriculum to 4 to 5 teams from local jurisdictions. Knowledge and competency assessments as well as a testing schedule will be developed and administered to the participants of the pilot training. Information gathered from participant feedback and exit knowledge assessment will be incorporated into the draft curriculum. Finally, the last phase is review and revision of the draft to develop the final curriculum and other deliverables.

Deliverables: (1) Create a 32- to 40-hour blended training curriculum based on the ITIP model. This will include all training material required to deliver the course. Training materials will include, but are not limited to (a) a complete instructor training manual in hard and electronic copy, (b) slide show presentations to support the training curriculum, (c) copies of participant training material, and (d) a final participant manual hard and electronic copy. (2) Design and facilitate stakeholder focus groups to gather information for additional curriculum content. The awardee will work with NIC's Correctional Program Specialist (CPS) to identify subject matter experts to serve on these focus groups. (3) Design and facilitate a 3- to 4-day train-the-trainer experience for the identified trainers of the new curriculum. The awardee will work with NIC's CPS to identify trainers. NIC will make the final approval of trainers for the pilot and any future program offerings. The design of the train the trainer will include adult learning theory, review the curriculum and objectives, practice facilitating the module, guided feedback sessions to provide feedback to the awardee, and guided feedback session for the awardee and CPS to provide feedback to the trainers. This training session will be held at the National Training Academy in Aurora, CO. (4) Pilot the final draft of the curriculum. The curriculum will be delivered to 4 to 5 teams from various jurisdictions. The awardee will be present during the pilot training sessions to observe the training and facilitate a debriefing session(s) with the trainers and participants to assess and address the training and curriculum concerns. (The travel and per diem costs of the 20-25 participants and trainers will be funded outside of this cooperative agreement and cost estimates should not be included in this budget.) The awardee will work with NIC on training logistics, which must follow mandatory training protocols set out by the Bureau of Prisons and NIC. The pilot will take place at the National Training Academy in Aurora, CO. (5) Develop a system and written protocol, in consultation with NIC's CPS and Research and Information Services Division, to assess the effectiveness of the training curriculum in changing identified knowledge and performance over time. (6) Plan and participate in planning meetings and updates with the assigned NIC CPS to initiate the project plan, review the information from the stakeholder focus groups and draft agenda, review draft curriculum, and perform final curriculum review. Maintain contact and advise NIC's CPS of any major changes, barriers, or progress. Face-to-face meetings must be held in an approved NIC training facility or by phone or video conference. (7) All documentation submitted must follow NIC's Service for Results guidelines which will be given to the awardee at the first meeting.

FOR FURTHER INFORMATION CONTACT: All technical or programmatic questions concerning this announcement should be directed to Ms. Lori Eville, Correctional Program Specialist, National Institute of Corrections, who may be reached by email at leville@bop.gov. In addition to the direct reply, all questions and responses will be posted on NIC's Web site at www.nicic.gov for public review (the names or affiliations of those submitting questions will not be posted). The Web site will be updated regularly and postings will remain on the Web site until the closing date of this cooperative agreement solicitation.

Application Requirements: Applications should be typed, double spaced, in 12-point font, and reference the project by the “NIC Opportunity Number” 13CS04 and title in this announcement, “Development and Pilot Training of a Curriculum for Pretrial Justice System Stakeholders”. The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf

Failure to supply all required forms with the application package may result in disqualification of the application from consideration.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished to include the overall project goal(s), major tasks to achieve the goals(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to achieve all project tasks? Does the proposal contain project management and staffing plans that are realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions; Subpart C, Functional Performance Criteria; and Subpart D, Documentation and Support. NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.601. You are not subject to the provisions of Executive Order 12372 and should check box b under section 16.

Robert M. Brown, Jr.,
Acting Director, National Institute of Corrections.

[FR Doc. 2013-16013 Filed 7-2-13; 8:45 am]

BILLING CODE 4410-36-P